FEDERAL COMMUNICATIONS COMMISSION

Radio Broadcasting Services; AM or FM Proposals To Change the Community of License

AGENCY: Federal Communications Commission.

ACTION: Notice.

SUMMARY: The following applicants filed AM or FM proposals to change the community of license: ADVANCED MODULATION BROADCASTING, LLC, Station NEW, Facility ID 161332, BNP-20090407AJH, From SOUTH HILLS, NV, To WASHOE CITY, NV; BRISTOL BROADCASTING COMPANY, INC., Station WNPC-FM, Facility ID 73346, BMPH-20090407AIO, From NEWPORT, TN, To WHITE PINE, TN; CBL INVESTMENTS, LLC, Station KBZB, Facility ID 78999, BMPH-20090408AQQ, From SANTA CLARA, UT, To HURRICANE, UT; DIXIE COLLEGE, Station KXDS, Facility ID 173065, BMPED-20090408AAA, From ST. GEORGE, UT, To SANTA CLARA, UT; EDUCATIONAL MEDIA FOUNDATION, Station KKLV, Facility ID 52903, BMPH-20090407AJD, From TURRELL, AR, To WEINER, AR; EDUCATIONAL MEDIA FOUNDATION, Station WKVF, Facility ID 859, BMPH-20090407AJE, From GERMANTOWN, TN, To BARTLETT, TN; SAGA COMMUNICATIONS OF NEW ENGLAND, LLC, Station WYNZ, Facility ID 58536, BPH-20090320AAY, From WESTBROOK, ME, To SOUTH PORTLAND, ME; SHINING LIGHT MINISTRIES, Station KPCJ, Facility ID 174806, BMPED-20090320ABJ, From YANKTON, SD, To ELK POINT, SD.

DATES: Comments may be filed through June 29, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E9-9974 Filed 4-29-09; 8:45 am]

BILLING CODE 6712-01-P